DEPARTMENT OF AGRICULTURE

Forest Service

Medicine Bow-Routt National Forests and Thunder Basin National Grassland Carbon County, WY, Blackhall-McAnulty Timber Sale, Prescribed Burn and Travel Management

AGENCY: Forest Service, USDA.

ACTION: Notice of intent to prepare an Environmental Impact Statement.

SUMMARY: The Forest Service will prepare and Environmental Impact Statement (EIS) to analyze and disclose the environmental effects of a site-specific proposal to reduce the spread of dwarf mistletoe and mountain pine beetle in area lodgepole pine stands, increase patch size of forested areas that have had past harvest, improve resiliency and reduce susceptibility to future disease and insect attack, salvage fire damaged trees, and promote and maintain area aspen and ponderosa pine stands within the Blackhall-McAnulty Analysis Area of the Brush Creek/Hayden Ranger District of the Medicine Bow-Routt National Forests within Carbon County, Wyoming, using a combination of clearcutting and partial harvest treatments.

The proposal also includes: prescribed fire to improve forage for big game and livestock, boundary treatments to reduce hazardous fuels on National Forest adjacent to private land, watershed restoration projects, improvement of the Big Creek Trailhead, and travel management within this portion of the Sierra Madre Range.

DATES: The draft environmental impact statement is expected to be filed with the Environmental Protection Agency (EPA) and available for public review during August 2003. At that time, the EPA will publish a Notice of Availability (NOA) of the draft EIA in the Federal Register. The comment period on the draft EIS will be for a period of not less than 45 days from the date the EPA publishes the NOA in the Federal Register. It is important that those interested in the management of this area comment at that time.

The final EIS is expected to be available in November 2003. In the final EIS, the Forest Service will respond to any comments received during the public comment period that pertain to the environmental analysis. Those comments and the Forest Service responses will be disclosed and discussed in the final EIS and will be considered when the final decision about this proposal is made.

ADDRESSES: Send written comments to Terry DeLay, Brush Creek/Hayden Ranger District, PO Box 249, Saratoga, WY 82331. Electronic Mail (e-mail) may be sent to tdelay@fs.fed.us and FAX may be sent to (307) 326-5250. Telephone: (307) 326-2518.

FOR FURTHER INFORMATION CONTACT: Mail correspondence to Terry DeLay, Brush Creek/Hayden Ranger District, PO Box 249, Saratoga, WY 82331, (telephone (307) 326-2518), or Scott Armentrout, District Ranger, Brush Creek-Hayden Ranger District, PO Box 249, Saratoga, WY 82331, (telephone (307) 326-5250). Electronic mail (e-mail) may be sent to tdelay@fs.fed.us and FAX may be sent to (307) 326-5250.

SUPPLEMENTARY INFORMATION:

Purpose and Need for Action

The purpose of this project is to improve the health and resiliency of area forests to reduce the current outbreak of mountain pine beetle and to decrease their susceptibility to insects and disease, maintain and restore aspen and ponderosa pine to its historic prominence, improve wildlife habitat capability, minimize human-caused soil erosion, reduce non-native cheatgrass in the area, and treat vegetation along portions of the Forest boundary to reduce the wildfire hazard to adjacent private land and structures.

Proposed Action

The proposed action includes commercial timber sales, mountain pine beetle treatments, prescribed fire, hazardous fuels reduction adjacent to private land, precommercial thinning, travel management, trailhead improvement, and watershed restoration.

Possible Alternatives

1. No action

2. Proposed Action with less road decommissioning

3. No clearcutting

4. Watershed restoration only

Background Information

The Blackhall-McAnulty Analysis combines projects that were previously identified on the Schedule of Proposed Actions: The Blackhall Timber Sale, the McAnulty/Beaver Creek Timber Sale, the McAnulty 2 Fuels Management project, and the Sierra Madre Travel Management Analysis. Comments submitted in response to any of these projects previously will be considered as part of this analysis.

Responsible Official

Mary Peterson, Forest Supervisor, USDA Forest Service, Medicine Bow-Routt National Forest, 2468 Jackson Street, Laramie, Wyoming 82070, is the official responsible for making the decision on this action. She will document her decision and rationale in a Record of Decision.

Nature of Decision To Be Made

The Responsible Official will consider the results of the analysis and its findings and then document the final decision in a Record of Decision (ROD). The decision will include a determination whether or not to implement the proposed action or another alternative.

Scoping Process

The National Environmental Policy Act (NEPA) requires an early and open process for determining the scope of issues to be addressed and for identifying the significant issues related to the proposed action.

The Forest Service is soliciting comments during the scoping phase of the environmental analysis process from Federal, State and local agencies, Indian Tribes, and organizations and individuals who may be interested or affected by the decision. The analysis process will include:

1. Identification of the issues to be addressed.

2. Identification of the issues to be analyzed in detail.

3. Elimination of non-significant issues, issues addressed by previous environmental analyses, and issues not within the scope of this decision.

Public Involvement

Public scoping describing the Blackhall-McAnulty Timber Sale, Prescribed Burn and Travel Management was initiated on April 10, 2003. Comments from scoping efforts will be reviewed to identify potential issues from this analysis. While comments are welcome at any time, comments received within 30 days of the publication of this notice in the Federal Register will be most useful for the identification of issues and the analysis of alternatives. As previously mentioned, comments may be sent by electronic mail (e-mail) to tdelay@fs.fed.us.

Written comments may be mailed to the Brush Creek/Hayden Ranger District, P.O. Box 249, Saratoga, WY 82331, Attention: Terry DeLay. Please reference the Blackhall-McAnulty Timber Sale, Prescribed Burn and Travel Management on the subject line. The name and mailing address of the commenter should be provided with their comments so that future documents pertaining to this environmental analysis and the decision can be provided to interested parties.

Preliminary Issues

The following potential issues and concerns were identified through previous internal and external scoping: (1) Clearcutting, (2) cumulative effects/habitat and wildlife diversity/fragmentation, (3) forest insects and diseases, and (4) watershed restoration/travel management.

Release of Names

Comments received in response to this solicitation, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Early Notice of Importance of Public Participation in Subsequent Environmental Review: A draft environmental impact statement will be prepared for comment. The comment period on the draft environmental impact statement will be 45 days from the date the Environmental Protection Action publishes the notices of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised during the draft environmental impact statement stage, but are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns related to the proposed action, comments on the draft environmental impact statement should be as specific as possible. It is also helpful if comments refer to specific pages or chapters of the draft document. Comments may also address the adequacy of the draft environmental impact statement or the merits of the alternatives displayed in the document. Reviewers should refer to the Council on Environmental Quality Regulations at 40 CFR 1503.3 for implementing the procedural provisions of the National Environmental Policy Act for addressing these points.

Dated: June 4, 2003.
Mary H. Peterson.
Forest Supervisor.

[FR Doc. 03-14672 Filed 6-10-03; 8:45 am]

BILLING CODE 3410-11-M